DEPARTMENT OF THE INTERIOR

Fish and Wildlife Service

Cahaba River National Wildlife Refuge

AGENCY: Fish and Wildlife Service, Department of the Interior.

ACTION: Notice.

SUMMARY: The Director of the U.S. Fish and Wildlife Service has approved the establishment of Cahaba River Wildlife Refuge in Bibb County, Alabama.

DATES: This action was effective on December 23, 2002.

FOR FURTHER INFORMATION CONTACT: Dwight Cooley, Project Leader, Cahaba River National Wildlife Refuge, c/o Wheeler National Wildlife Refuge, 2700 Refuge Headquarters Road, Decatur, Alabama 35603; telephone: 256/353-7243, fax: 256/340—9728, e-mail: Dwight—Cooley@fws.gov.

SUPPLEMENTARY INFORMATION: The Director of the U.S. Fish and Wildlife Service has approved the establishment of Cahaba River National Wildlife Refuge to (1) conserve, enhance, and restore the native aquatic and terrestrial community characteristics of the Cahaba River; (2) to conserve, enhance, and restore habitat to maintain and assist in the recovery of animals and plants that are listed as threatened or endangered species; (3) to ensure that hunting, fishing, wildlife observation, wildlife photography, and environmental education and interpretation are the priority general public uses of the refuge when providing opportunities for compatible fish- and wildlife-oriented recreation; and (4) to encourage the use of volunteers and to facilitate partnerships among the Service, local communities, conservation organizations, and other non-federal entities when promoting public awareness of the refuge's resources and those of the National Wildlife Refuge System.

Authority: This notice is published under the authority of the Cahaba River National Wildlife Refuge Act, Public Law 106-331, and the National Wildlife Refuge System Administration Act of 1996, as amended (16 U.S.C., 668dd-668ee).

Dated: December 16, 2002.
Sam D. Hamilton,
Regional Director.

[FR Doc. 02-32210 Filed 12-23-02; 8:45 am]

BILLING CODE 4310-55-M